INTERNATIONAL TRADE COMMISSION

[Investigation Nos. 701-TA-626 and 731-TA-1452-1454 (Preliminary)]

Certain Collated Steel Staples From China, Korea, and Taiwan; Determinations

On the basis of the record ¹ developed in the subject investigations, the United States International Trade Commission (“Commission”) determines, pursuant to the Tariff Act of 1930 (“the Act”), that there is a reasonable indication that an industry in the United States is materially injured by reason of imports of certain collated steel staples (“CCS staples”) from China, provided for in subheading 8305.20.00 of the Harmonized Tariff Schedule of the United States, that are alleged to be sold in the United States at less than fair value (“LTFV”) and to be subsidized by the government of China.2 3 The Commission further determines that imports of CCS staples from Korea and Taiwan that are alleged to be sold in the United States at LTFV are negligible pursuant to section 771(24) of the Act, and its antidumping duty investigations with regard to CCS staples from Korea and Taiwan are thereby terminated pursuant to section 703(a)(1) of the Act.

¹ The record is defined in sec. 207.2(f) of the Commission's Rules of Practice and Procedure (19 CFR 207.2(f)).

² Certain Collated Steel Staples From the People's Republic of China: Initiation of Countervailing Duty Investigation, 84 FR 31840, July 3, 2019. Certain Collated Steel Staples From the People's Republic of China, the Republic of Korea, and Taiwan: Initiation of Less-Than-Fair-Value Investigations, 84 FR 31833, July 3, 2019.

³ Commissioner Jason E. Kearns did not participate in these investigations.

Commencement of Final Phase Investigations

Pursuant to section 207.18 of the Commission's rules, the Commission also gives notice of the commencement of the final phase of its investigations with respect to imports of CCS staples from China. The Commission will issue a final phase notice of scheduling, which will be published in the Federal Register as provided in section 207.21 of the Commission's rules, upon notice from the U.S. Department of Commerce (“Commerce”) of affirmative preliminary determinations in the investigations under sections 703(b) or 733(b) of the Act, or, if the preliminary determinations are negative, upon notice of affirmative final determinations in those investigations under sections 705(a) or 735(a) of the Act. Any parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On June 6, 2019, Kyocera Senco Industrial Tools, Inc. (“Senco”), Cincinnati, Ohio, filed petitions with the Commission and Commerce, alleging that an industry in the United States is materially injured or threatened with material injury by reason of subsidized imports of CCS staples from China and LTFV imports of CCS staples from China, Korea, and Taiwan. Accordingly, effective June 6, 2019, the Commission, pursuant to sections 703(a) and 733(a) of the Act (19 U.S.C. 1671b(a) and 1673b(a)), instituted countervailing duty investigation No. 701-TA-626 and antidumping duty investigation Nos. 731-TA-1452-1454 (Preliminary).

Notice of the institution of the Commission's investigations and of a public conference to be held in connection therewith was given by posting copies of the notice in the Office of the Secretary, U.S. International Trade Commission, Washington, DC, and by publishing the notice in the Federal Register of June 14, 2019 (84 FR 27803). The conference was held in Washington, DC, on June 27, 2019, and all persons who requested the opportunity were permitted to appear in person or by counsel.

The Commission made these determinations pursuant to sections 703(a) and 733(a) of the Act (19 U.S.C. 1671b(a) and 1673b(a)). It completed and filed its determinations in these investigations on July 22, 2019. The views of the Commission are contained in USITC Publication 4939 (July 2019), entitled Certain Collated Steel Staples from China, Korea, and Taiwan: Investigation Nos. 701-TA-626 and 731-TA-1452-1454 (Preliminary).

By order of the Commission.
Issued: July 22, 2019.
William Bishop,
Supervisory Hearings and Information Officer.

[FR Doc. 2019-15830 Filed 7-24-19; 8:45 am]

BILLING CODE 7020-02-P